DEPARTMENT OF COMMERCE

National Oceanic and Atmospheric Administration

RIN 0648-XA963

Marine Mammals; File No. 15142

AGENCY: National Marine Fisheries Service (NMFS), National Oceanic and Atmospheric Administration (NOAA), Commerce.

ACTION: Notice; issuance of permit.

SUMMARY: Notice is hereby given that a permit has been issued to Colleen Reichmuth, Ph.D., University of California at Santa Cruz, Long Marine Laboratory, 100 Shaffer Road, Santa Cruz, CA, to take pinnipeds for scientific research purposes.

ADDRESSES: The permit and related documents are available for review upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

FOR FURTHER INFORMATION CONTACT: Amy Sloan or Tammy Adams, (301) 427-8401.

SUPPLEMENTARY INFORMATION: On January 31, 2012, notice was published in the Federal Register (77 FR 4765) that a request for a permit to take pinnipeds for scientific research had been submitted by the above-named applicant. The requested permit has been issued under the authority of the Marine Mammal Protection Act of 1972, as amended (16 U.S.C. 1361 et seq.), and the regulations governing the taking and importing of marine mammals (50 CFR part 216).

The permit holder is authorized over a five-year period to collect from the wild up to two bearded seals (Erignathus barbatus) in the Northwest Arctic Borough of Alaska for a long-term behavioral study at Long Marine Laboratory in Santa Cruz, CA. Up to four bearded seals may be captured and temporarily held in order to evaluate their suitability for participation in research. Captured seals deemed unsuitable for the long-term study will be released at the capture site. Incidental harassment of up to one ringed seal (Phoca hispida) and one spotted seal (Phoca larga), and mortality of two bearded seals is authorized for the duration of the permit. After a quarantine period, the seals will be transferred to NMFS Permit No. 14535-01 (75 FR 58352) for research on the amphibious hearing capabilities of bearded seals to improve the understanding of the potential effects of expected increases in anthropogenic activities in polar habitats.

In compliance with the National Environmental Policy Act of 1969 (42 U.S.C. 4321 et seq.), a final determination has been made that the activity proposed is categorically excluded from the requirement to prepare an environmental assessment or environmental impact statement.

Dated: August 28, 2012.
P. Michael Payne,
Chief, Permits and Conservation Division, Office of Protected Resources, National Marine Fisheries Service.

[FR Doc. 2012-21851 Filed 9-4-12; 8:45 am]

BILLING CODE 3510-22-P